DEPARTMENT OF TRANSPORTATION

Federal Motor Carrier Safety Administration

[Docket No. FMCSA-2005-20560]

Qualification of Drivers; Exemption Applications; Vision

AGENCY: Federal Motor Carrier Safety Administration (FMCSA), DOT.

ACTION: Notice of applications for exemption from the vision standard; request for comments.

SUMMARY: This notice publishes the FMCSA's receipt of applications from 30 individuals for an exemption from the vision requirement in the Federal Motor Carrier Safety Regulations. If granted, the exemptions will enable these individuals to qualify as drivers of commercial motor vehicles (CMVs) in interstate commerce without meeting the vision standard prescribed in 49 CFR 391.41(b)(10).

DATES: Comments must be received on or before May 6, 2005.

ADDRESSES: You may submit comments identified by any of the following methods. Please identify your comments by the DOT DMS Docket Number FMCSA-2005-20560.

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the on-line instructions for submitting comments.

Instructions: All submissions must include the agency name and docket number for this notice. For detailed instructions on submitting comments and additional information on the rulemaking process, see the Public Participation heading of the SUPPLEMENTARY INFORMATION section of this document. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Ms. Maggi Gunnels, Office of Bus and Truck Standards and Operations, (202) 366-4001, FMCSA, Department of Transportation, 400 Seventh Street, SW., Washington, DC 20590-0001. Office hours are from 8 a.m. to 5 p.m., e.t., Monday through Friday, except Federal holidays.

SUPPLEMENTARY INFORMATION: Public Participation: The DMS is available 24 hours each day, 365 days each year. You can get electronic submission and retrieval help guidelines under the “help” section of the DMS Web site. If you want us to notify you that we received your comments, please include a self-addressed, stamped envelope or postcard or print the acknowledgement page that appears after submitting comments on-line.

Privacy Act: Anyone is able to search the electronic form of all comments received into any of our dockets by the name of the individual submitting the comment (or signing the comment, if submitted on behalf of an association, business, labor union, etc.). You may review the Department of Transportation's complete Privacy Act Statement in the Federal Register published on April 11, 2000 (Volume 65, Number 70; Pages 19477-78) or you may visit http://dms.dot.gov.

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The 30 individuals listed in this notice have recently requested an exemption from the vision requirement in 49 CFR 391.41(b)(10), which applies to drivers of CMVs in interstate commerce. Accordingly, the agency will evaluate the qualifications of each applicant to determine whether granting the exemption will achieve the required level of safety mandated by the statute.

Qualifications of Applicants

1. Edmund J. Barron

Mr. Barron, age 36, has amblyopia in his right eye. His best-corrected visual acuity in the right eye is 20/100 and in the left, 20/20. Following an examination in 2004, his optometrist certified, “Based on this examination, it is my medical opinion that Mr. Barron has sufficient vision to perform the driving tasks required to operate a commercial vehicle.” Mr. Barron submitted that he has driven straight trucks for 1 year, accumulating 40,000 miles, and tractor-trailer combinations for 16 years, accumulating 1.2 million miles. He holds a Class A commercial driver's license (CDL) from Pennsylvania. His driving record for the last 3 years shows no crashes or convictions for moving violations in a CMV.

2. Eddie M. Brown

Mr. Brown, 47, has amblyopia in his left eye. The best-corrected visual acuity in his right eye is 20/20 and in the left, 20/200. His optometrist examined him in 2004 and stated, “I would like to certify that in my medical opinion Mr. Eddie Brown has sufficient vision to perform the driving tasks required to operate a commercial vehicle.” Mr. Brown submitted that he has driven straight trucks for 20 years, accumulating 1.0 million miles, and tractor-trailer combinations for 19 years, accumulating 345,000 miles. He holds a Class AM CDL from South Carolina. His driving record for the last 3 years shows no crashes or convictions for moving violations in a CMV.

3. Tony Cook

Mr. Cook, 38, has central field loss in his right eye due to an injury in 1987. His best-corrected visual acuity in the right eye is light perception and in the left, 20/15. Following an examination in 2004, his optometrist certified, “Based upon my findings and medical expertise, I hereby certify Tony Cook to be visually able to safely operate a commercial motor vehicle.” Mr. Cook submitted that he has driven straight trucks for 8 years, accumulating 624,000 miles. He holds a Class D driver's license from Kentucky. His driving record for the last 3 years shows two crashes and one conviction for a moving violation in a CMV. According to police report for the first crash, another driver crossed the center line and struck Mr. Cook's vehicle. The report indicated that inattention by the other driver was a contributing factor in the crash. Neither driver was cited. According to the police report for the second crash, Mr. Cook was attempting to back a tractor-trailer onto private property from a roadway when another driver collided with his vehicle. The other driver was cited; Mr. Cook was not cited. The moving violation, which occurred on a separate occasion, was exceeding the speed limit by 15 mph.

4. Jeffery W. Cotner

Mr. Cotner, 42, has amblyopia in his left eye. His best-corrected visual acuity in the right eye is 20/20 and in the left, 20/60. Following an examination in 2004, his optometrist certified, “It is my medical opinion that Mr. Cotner does have sufficient vision to perform the driving tasks required to operate a commercial vehicle.” Mr. Cotner reported that he has driven tractor-trailer combinations for 13 years, accumulating 230,000 miles. He holds a Class A CDL from Oregon. His driving record for the last 3 years shows no crashes or convictions for moving violations in a CMV.

5. John K. Fank

Mr. Fank, 43, had a retinal detachment in his right eye 15 years ago. The best-corrected visual acuity in his right eye is 20/150 and in the left, 20/20. His optometrist examined him in 2004 and stated, “This patient appears to have sufficient sight and peripheral vision to continue driving his commercial vehicle as safely as demonstrated over previous years.” Mr. Fank reported that he has driven straight trucks for 11 years, accumulating 247,000 miles, and tractor-trailer combinations for 10 years, accumulating 195,000 miles. He holds a Class A CDL from Illinois. His driving record for the last 3 years shows no crashes or convictions for moving violations in a CMV.

6. Bobby G. Fletcher

Mr. Fletcher, 38, has amblyopia in his left eye. The best-corrected visual acuity in his right eye is 20/20 and in the left, 20/200. His optometrist examined him in 2004 and noted, “In my professional opinion this patient should have sufficient vision with corrective lenses to operate a commercial vehicle.” Mr. Fletcher reported that he has driven tractor-trailer combinations for 10 years, accumulating 600,000 miles. He holds a Class A CDL from Texas. His driving record for the last 3 years shows no crashes or convictions for moving violations in a CMV.

7. Lonny L. Ford

Mr. Ford, 58, has had a macular scar in his right eye since age 8. His best-corrected visual acuity in the right eye is 20/200 and in the left, 20/20. Following an examination in 2005, his ophthalmologist noted, “It is my medical opinion this patient has sufficient vision to perform the driving tasks required to operate a commercial vehicle.” Mr. Ford reported that he has driven straight trucks for 34 years, accumulating 2.8 million miles. He holds a Class D driver's license from Tennessee. His driving record for the last 3 years shows no crashes or convictions for moving violations in a CMV.

8. Larry G. Garcia

Mr. Garcia, 52, had a retinal detachment in his right eye in 1995. The visual acuity in his right eye is light perception and in the left, 20/20. Following an examination in 2004 his optometrist stated, “It is my opinion, Larry Garcia has sufficient vision and visual field to perform driving tasks required for operating a commercial vehicle.” Mr. Garcia reported that he has driven straight trucks for 25 years, accumulating 1.2 million miles, and tractor-trailer combinations for 10 years, accumulating 780,000 miles. He holds a Class C driver's license from Oregon. His driving record for the last 3 years shows no crashes and one conviction for a moving violation—speeding—in a CMV. He exceeded the speed limit by 17 mph.

9. Robert E. Hendrick

Mr. Hendrick, 63, has corneal damage in his right eye due to an injury in 1964. His best-corrected visual acuity in the right eye is 20/400 and in the left, 20/20. Following an examination in 2004, his optometrist noted, “I certify that Mr. Hendrick has sufficient vision to perform the driving tasks required to operate a commercial vehicle.” Mr. Hendrick submitted that he has driven straight trucks for 45 years, and tractor-trailer combinations for 30 years, accumulating 900,000 miles in each. He holds a Class A CDL from Illinois. His driving record for the last 3 years shows no crashes or convictions for moving violations in a CMV.

10. Jonah G. Higdon

Mr. Higdon, 34, has amblyopia in his left eye. The best-corrected visual acuity in his right eye is 20/20 and in the left, 20/50. Following an examination in 2004, his optometrist certified, “It is my professional opinion that Mr. Higdon has sufficient vision to perform the driving tasks required to operate a commercial vehicle.” Mr. Higdon reported that he has driven straight trucks for 14 years, accumulating 250,000 miles. He holds a driver's license from Mississippi. His driving record for the last 3 years shows no crashes or convictions for moving violations in a CMV.

11. Daniel J. Hillman

Mr. Hillman, 61, experienced a retinal detachment in his right eye in November 2001. His best-corrected visual acuity in the right eye is 20/200 and in the left, 20/20. Following an examination in 2004, his optometrist certified, “In my opinion Mr. Hillman retains sufficient vision to perform as a commercial driver.” Mr. Hillman reported that he has driven straight trucks for 7 years, accumulating 602,000 miles, and tractor-trailer combinations for 26 years, accumulating 2.3 million miles. He holds a Class A CDL from Washington. His driving record for the last 3 years shows one crash and no convictions for moving violations in a CMV. According to the police report, Mr. Hillman's vehicle collided with an oncoming vehicle, and the investigating officer was unable to determine which vehicle was over the double center line. Neither driver was cited.

12. Ronald A. Johnson

Mr. Johnson, 55, had cataract surgery followed by infection and loss of his left eye in the year 2000. His best-corrected visual acuity in the right eye is 20/20. Following an examination in 2004, his optometrist noted, “In my opinion he has adequate vision to drive and is safe to drive a commercial vehicle with proper side mirrors.” Mr. Johnson reported that he has driven tractor-trailer combinations for 25 years, accumulating 2.7 million miles. He holds a Class DA CDL from Kentucky. His driving record for the last 3 years shows no crashes or convictions for moving violations in a CMV.

13. Clyde H. Kitzan

Mr. Kitzan, 47, has amblyopia in his right eye. The best-corrected visual acuity in his right eye is 20/200 and in the left, 20/15. His optometrist examined him in 2004 and certified, “Because of his past history of successfully operating trucks and equipment, and because his vision has been stable for approximately 35 years, it is my opinion Mr. Kitzan is visually capable of operating a commercial vehicle.” Mr. Kitzan reported that he has driven straight trucks and tractor-trailer combinations for 15 years, accumulating 750,000 miles in each. He holds a Class AM CDL from North Dakota. His driving record for the last 3 years shows no crashes and one conviction for a moving violation—speeding—in a CMV. He exceeded the speed limit by 12 mph.

14. Joe S. Lassiter, III

Mr. Lassiter, 62, lost his right eye due to an injury 37 years ago. The best-corrected visual acuity in his left eye is 20/20. Following an examination in 2004, his optometrist noted, “I certify in my opinion, Mr. Lassiter has sufficient vision in his left eye to operate a commercial vehicle.” Mr. Lassiter submitted that he has driven straight trucks for 39 years, accumulating 1.1 million miles, and tractor-trailer combinations for 12 years, accumulating 600,000 miles. He holds a Class A CDL from Georgia. His driving record for the last 3 years shows no crashes or convictions for moving violations in a CMV.

15. Gene A. Lesher, Jr.

Mr. Lesher, 30, has amblyopia in his left eye. His best-corrected visual acuity in the right eye is 20/20 and in the left, 20/50. Following an examination in 2004, his optometrist certified, “Based on his display of 20/20 binocular vision, his good depth perception, the presence of a full visual field, and his previous driving history with the longstanding nature of his visual condition, it is my opinion that Mr. Lesher has sufficient vision to perform the driving tasks associated with operating a commercial vehicle.” Mr. Lesher reported that he has driven tractor-trailer combinations for 8 years, accumulating 936,000 miles. He holds a Class A CDL from West Virginia. His driving record for the last 3 years shows no crashes and one conviction for a moving violation—speeding—in a CMV. He exceeded the speed limit by 13 mph.

16. Eugene A. Maggio

Mr. Maggio, 62, lost his right eye due to an injury in 2001. The best-corrected visual acuity in his left eye is 20/20. His optometrist examined him in 2004 and noted, “In my medical opinion, Mr. Maggio has sufficient vision to perform the driving tasks required to operate a commercial vehicle.” Mr. Maggio reported that he has driven straight trucks for 2 years, accumulating 2,000 miles, and tractor trailer-combinations for 38 years, accumulating 4.1 million miles. He holds a Class A CDL from Missouri. His driving record for the last 3 years shows no crashes or convictions for moving violations in a CMV.

17. Anthony R. Miles

Mr. Miles, 40, lost his left eye due to trauma 15 years ago. His visual acuity in the right eye is 20/20. Following an examination in 2004, his optometrist certified, “In my opinion, Mr. Miles has sufficient vision to perform the driving tasks required to operate a commercial vehicle.” Mr. Miles submitted that he has driven straight trucks for 18 years, accumulating 250,000 miles, and tractor-trailer combinations for 9 years, accumulating 630,000 miles. He holds a Class AM CDL from Nevada. His driving record for the last 3 years shows no crashes or convictions for moving violations in a CMV.

18. Raymond E. Morelock

Mr. Morelock, 54, has no vision in the right eye due to trauma from childhood. His visual acuity in the left eye is 20/20. Following an examination in 2005, his optometrist certified, “It is my professional opinion that the defect in Mr. Morelock's right eye will not affect the safe operation of a motor vehicle, whether private or commercial.” Mr. Morelock submitted that he has driven straight trucks for 14 years, accumulating 100,000 miles. He holds a Class D driver's license from Wisconsin. His driving record for the last 3 years shows no crashes or convictions for moving violations in a CMV.

19. Kenneth L. Nau

Mr. Nau, 47, has had a macular scar in his left eye since birth. His best-corrected visual acuity in the right eye is 20/20 and in the left, 20/400. Following an examination in 2004, his ophthalmologist noted, “Mr. Nau has maintained a safe driving record for many years and has always driven with mild visual disability of the left eye. Since it has always been present, he has functioned well, and his peripheral visual acuity is excellent, there is no reason to believe that he cannot continue to operate commercial vehicles.” Mr. Nau submitted that he has driven straight trucks for 25 years, accumulating 2.0 million miles. He holds a Class AM CDL from Maryland. His driving record for the last 3 years shows no crashes or convictions for moving violations in a CMV.

20. David L. Peebles

Mr. Peebles, 52, has amblyopia in his left eye. The best-corrected visual acuity in his right eye is 20/20 and in the left, 20/200. His optometrist examined him in 2005 and certified, “To the best of my opinion, I would think that visually he can continue to drive commercial vehicles with little or no problems.” Mr. Peebles submitted that he has driven straight trucks for 3 years, accumulating 180,000 miles, and tractor-trailer combinations for 21 years, accumulating 2.6 million miles. He holds a Class A CDL from Indiana. His driving record for the last 3 years shows no crashes or convictions for moving violations in a CMV.

21. David W. Peterson

Mr. Peterson, 26, has amblyopia in his right eye. The visual acuity in his right eye is 20/200 and in the left, 20/20. His optometrist examined him in 2004 and certified, “His vision is more than adequate to perform the tasks required of him while driving and should remain stable over the next several years.” Mr. Peterson submitted that he has driven tractor-trailer combinations for 6 years, accumulating 600,000 miles. He holds a Class A CDL from Utah. His driving record for the last 3 years shows no crashes and one conviction for a moving violation—speeding—in a CMV. He exceeded the speed limit by 9 mph.

22. Frederick G. Robbins

Mr. Robbins, 50, has had a retinal scar in his right eye since 1998. The best-corrected visual acuity in his right eye is 20/70 and in the left, 20/20. His ophthalmologist examined him in 2004 and noted, “His vision is sufficient to drive a commercial vehicle.” Mr. Robbins reported that he has driven tractor-trailer combinations for 27 years, accumulating 1.3 million miles. He holds a Class A CDL from New York. His driving record for the last 3 years shows one crash and one conviction for a moving violation in a CMV. According to the police report, Mr. Robbins' vehicle collided with another vehicle traveling in the same direction, but the investigating officer did not determine how the crash happened. The other driver was cited; Mr. Robbins was not cited.

23. Jose C. Sanchez-Sanchez

Mr. Sanchez-Sanchez, 37, lost his left eye due to an injury 25 years ago. The visual acuity in his right eye is 20/25. His optometrist examined him in 2004 and certified, “I believe he has sufficient vision to perform the driving tasks required to operate a commercial vehicle.” Mr. Sanchez-Sanchez submitted that he has driven straight trucks for 16 years, accumulating 160,000 miles, and tractor-trailer combinations for 10 years, accumulating 130,000 miles. He holds a Class A CDL from Idaho. His driving record for the last 3 years shows no crashes or convictions for moving violations in a CMV.

24. Boyd D. Stamey

Mr. Stamey, 43, has a macular scar in the left eye due to injury in 2001. His best-corrected visual acuity in the right eye is 20/20 and in the left, 20/50. Following an examination in 2004, his ophthalmologist certified, “It is my opinion that you have very stable vision in the eye and indeed the left eye continues to improve. I see no reservation with your having a commercial driver's license. You should be able to perform with the restrictions you have with this left eye, in keeping with the slightly reduced vision.” Mr. Stamey reported that he has driven tractor-trailer combinations for 10 years, accumulating 960,000 miles. He holds a Class A CDL from North Carolina. His driving record for the last 3 years shows one crash and no convictions for moving violations in a CMV. According to the police report, Mr. Stamey was stopped in traffic when his vehicle was struck on the side by another driver who was trying to avoid rear-ending a vehicle in front of him. Neither Mr. Stamey nor the driver of the vehicle which struck his was cited.

25. Scott C. Teich

Mr. Teich, 40, has had astigmatism in his left eye since childhood. His best-corrected visual acuity in the right eye is 20/20 and in the left, 20/60. Following an examination in 2004, his optometrist certified, “In my opinion, Mr. Teich possesses sufficient vision to safely operate a commercial vehicle and perform the driving tasks that are required.” Mr. Teich reported that he has driven tractor-trailer combinations for 10 years, accumulating 900,000 miles. He holds a Class A CDL from Minnesota. His driving record for the last 3 years shows no crashes and one conviction for a moving violation—speeding—in a CMV. He exceeded the speed limit by 5 mph.

26. Emerson J. Turner

Mr. Turner, 60, has a central vision deficit in his right eye due to trauma 15 years ago. His best-corrected visual acuity in the right eye is finger counting and in the left, 20/20. Following an examination in 2004, his optometrist certified, “In my medical opinion, Mr. Turner appears to have sufficient vision to perform the driving tasks required to operate a commercial vehicle.” Mr. Turner reported that he has driven tractor-trailer combinations for 3 years, accumulating 348,000 miles. He holds a Class A CDL from Texas. His driving record for the last 3 years shows no crashes and two convictions for moving violations in a CMV. The moving violations were “failure to obey traffic control device” and exceeding the speed limit by 15 mph.

27. Daniel E. Watkins

Mr. Watkins, 41, underwent a congenital cataract operation in his left eye in 1964. The visual acuity in his right eye is 20/20 and in the left, finger counting. His ophthalmologist examined him in 2004 and stated, “It is my medical opinion that Mr. Watkins has sufficient vision to perform the driving tasks required to operate a commercial vehicle.” Mr. Watkins reported that he has driven straight trucks and tractor-trailer combinations for 5 years, accumulating 625,000 miles in each. He holds a Class A CDL from Florida. His driving record for the last 3 years shows no crashes and one conviction for a moving violation—speeding—in a CMV. He exceeded the speed limit by 11 mph.

28. Dean E. Wheeler

Mr. Wheeler, 51, had a corneal transplant in his right eye prior to 1996. The best-corrected visual acuity in his right eye is 20/50 and in the left, 20/20. Following an examination in 2004, his optometrist certified, “I feel in my medical opinion that Mr. Dean Wheeler has sufficient vision to perform the driving tasks required to operate a commercial vehicle.” Mr. Wheeler reported that he has driven straight trucks for 5 years, accumulating 60,000 miles. He holds a Class ABCD CDL from Wisconsin. His driving record for the last 3 years shows no crashes or convictions for moving violations in a CMV.

29. Michael C. Williams, Sr.

Mr. Williams, 36, lost the vision in his left eye due to an injury in 1992. His visual acuity in the right eye is 20/20. Following an examination in 2004, his optometrist noted, “In summary, the eye health is normal and vision is clear and normal. There appears to be no concern or limit to his visual ability to drive in general or to drive commercially.” Mr. Williams reported that he has driven straight trucks for 7 years, accumulating 350,000 miles, and tractor-trailer combinations for 9 years, accumulating 720,000 miles. He holds a Class A CDL from Texas. His driving record for the last 3 years shows no crashes or convictions for moving violations in a CMV.

30. Louie E. Workman

Mr. Workman, 55, has amblyopia in his right eye. His best-corrected visual acuity in his right eye is 20/70 and in the left, 20/30. His ophthalmologist examined him in 2004 and noted, “In my opinion, he has sufficient vision to perform the driving tasks required to operate a commercial vehicle.” Mr. Workman submitted that he has driven straight trucks for 30 years, accumulating 1.5 million miles, and tractor-trailer combinations for 15 years, accumulating 75,000 miles. He holds a Class A CDL from Arkansas. His driving record for the last 3 years shows no crashes or convictions for moving violations in a CMV.

Request for Comments

In accordance with 49 U.S.C. 31315 and 31136(e), the FMCSA requests public comment from all interested persons on the exemption petitions described in this notice. We will consider all comments received before the close of business on the closing date indicated earlier in the notice.

Issued on: March 31, 2005.
Rose A. McMurray,
Associate Administrator, Policy and Program Development.

[FR Doc. 05-6804 Filed 4-5-05; 8:45 am]

BILLING CODE 4910-EX-P